DEPARTMENT OF HEALTH AND HUMAN SERVICES

Centers for Disease Control and Prevention

[30Day-23-0853]

Agency Forms Undergoing Paperwork Reduction Act Review

In accordance with the Paperwork Reduction Act of 1995, the Centers for Disease Control and Prevention (CDC) has submitted the information collection request titled “Asthma Information Reporting System (AIRS)” to the Office of Management and Budget (OMB) for review and approval. CDC previously published a “Proposed Data Collection Submitted for Public Comment and Recommendations” notice on December 20, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Asthma Information and Reporting System (AIRS) (OMB Control No. 0920-0853, Exp. 5/31/2023)—Extension—National Center for Environmental Health (NCEH), Centers for Disease Control and Prevention (CDC).

Background and Brief Description

In 1999, the CDC began its National Asthma Control Program (NACP), a public health approach to address the burden of asthma. The program supports the proposed objectives of “Healthy People 2030” for asthma and is based on the public health principles of surveillance, partnerships, interventions, and evaluation. CDC requests a three-year approval for an Extension of Asthma Information Reporting System (AIRS) (OMB Control No. 0920-0853; Expiration Date 5/31/2023).

The three-year approval will allow CDC to continue to monitor states' program planning and delivery of public health activities and the programs' collaboration with health care systems through a new five-year cooperative agreement—A Comprehensive Public Health Approach to Asthma Control through Evidence-Based Interventions (CDC-RFA-EH19-1902).

The goal of this data collection is to provide NCEH with routine information about the activities and performance of the State, local and Territorial recipients funded under the NACP through an annual reporting system. NACP requires recipients to report activities related to partnerships, infrastructure, evaluation and interventions to monitor the programs' performance in reducing the burden of asthma. AIRS also includes two forms to collect aggregate emergency department (ED) visits and hospital discharge (HD) data from recipients.

AIRS was first approved by OMB in 2010 to collect data in a web-based system to monitor and guide participating State health departments. Since implementation in 2010, AIRS, and the technical assistance provided by CDC staff, have provided States with uniform data reporting methods and linkages to other States' asthma program information and resources. Thus, AIRS has saved State resources and staff time when asthma programs embark on asthma activities similar to those conducted elsewhere.

Over the past three years, AIRS data has been used to accomplish a multitude of activities centered around transparent communication and informed decision-making for State asthma programs. AIRS data served as a resource to address congressional, departmental, and institutional inquiries, along with enabling inquiries surrounding interventions for heavily burdened populations based on geographic areas, age groups, and other variables of interest. Additionally, the AIRS data has allowed our team to provide timely feedback on performance, both independent and performance relative to others, through the distribution of two written reports and several presentations. Furthermore, AIRS data has allowed for the customization of technical assistance for materials addressing implementation challenges and barriers. As the current cooperative agreement cycle comes to an end, the AIRS data has provided key information in helping to shape the next program announcement.

There will be no cost to respondents other than their time to complete the PM Reporting Tool, ED Visits Reporting Form, and HD Reporting Form, on an annual basis. The estimated annualized time burden is 105 hours.

Estimated Annualized Burden Hours
Type of respondents | Form name | Number of respondents | Number of responses per respondent | Average burden per response (in hours)
Funded Asthma Program Recipients | Performance Measures Reporting Tool | 30 | 1 | 150/60
| Emergency Department Visits Reporting Form | 30 | 1 | 30/60
| Hospital Discharge Reporting Form | 30 | 1 | 30/60

Jeffrey M. Zirger,
Lead, Information Collection Review Office, Office of Public Health Ethics and Regulations, Office of Science, Centers for Disease Control and Prevention.

[FR Doc. 2023-10743 Filed 5-18-23; 8:45 am]

BILLING CODE 4163-18-P